DEPARTMENT OF HEALTH AND HUMAN SERVICES

Food and Drug Administration

[Docket No. 2005N-0311]

Critical Path Initiative; Developing Prevention Therapies; Planning of Workshop; Correction

AGENCY: Food and Drug Administration, HHS.

ACTION: Request for comments; correction.

SUMMARY: The Food and Drug Administration is correcting a notice that appeared in the Federal Register of August 3, 2005 (70 FR 44660). The document announced the planning of a workshop as part of its Critical Path Initiative and requested comments. The document was published with an incorrect docket number. This document corrects that error.

FOR FURTHER INFORMATION CONTACT: Joyce Strong, Office of Policy and Planning (HF-27), Food and Drug Administration, 5600 Fishers Lane, Rockville, MD 20857, 301-827-7010.

SUPPLEMENTARY INFORMATION: In FR Doc. 05-15282, appearing on page 44660 in the Federal Register of Wednesday, August 3, 2005, the following correction is made:

1. On page 44660, in the second column, in the headings section of the document, “[Docket No. 2004N-0355]” is corrected to read “[Docket No. 2005N-0311]”.

Dated: August 12, 2005.
Jeffrey Shuren,
Assistant Commissioner for Policy.

[FR Doc. 05-16504 Filed 8-19-05; 8:45 am]

BILLING CODE 4160-01-S